DEPARTMENT OF ENERGY

Federal Energy Regulatory Commission

[Docket Nos. EL02-112-000 and EL02-120-000]

FirstEnergy Solutions Corp., Complainant v. PJM Interconnection, LLC, Respondent; Edison Mission Energy, Complainant v. PJM Interconnection, LLC, Respondent; Notice of Filing of Responses to Data Requests

December 17, 2002.

Take notice that on December 11, 2002, PJM Interconnection, LLC (PJM), respondent, filed with the Federal Energy Regulatory Commission (Commission) responses to data requests propounded by the Commission by letter dated November 26, 2002, in the above-captioned dockets. Respondent states that it has served a copy of these responses on each person whose name appears on the official service list in the two above-captioned dockets.

Any person desiring to be heard or to comment on this filing should file with the Federal Energy Regulatory Commission, 888 First Street, NE., Washington, DC 20426. Comments will be considered by the Commission in determining the appropriate action to be taken, but will not serve to make protestants parties to the proceeding. Any person wishing to become a party must file a motion to intervene, see rule 214 of the Commission's rules of practice and procedure, 18 CFR 385.214 (2002). All comments or interventions must be filed on or before December 31, 2002. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. The filings may be made electronically via the Internet in lieu of paper; see 18 CFR 385.2001(a)(1)(iii) and the instructions on the Commission's web site under the “e-Filing” link. The Commission strongly encourages electronic filings.

Linwood A. Watson, Jr.,
Deputy Secretary.

[FR Doc. 02-32199 Filed 12-20-02; 8:45 am]

BILLING CODE 6717-01-P